FEDERAL ELECTION COMMISSION

Sunshine Act Meetings

AGENCY: Federal Election Commission.

DATE and TIME: Thursday, June 26, 2014 AT 10:00 a.m.

PLACE: 999 E Street NW., Washington, DC (Ninth Floor).

STATUS: This Meeting Will Be Open to the Public.

ITEMS TO BE DISCUSSED:

Correction and Approval of Minutes for June 12, 2014

Audit Division Recommendation Memorandum on the Democratic Party of Illinois (DPIL) (A11-15)

Draft Advisory Opinion 2014-04: Enterprise Holdings, Inc.

Individuals who plan to attend and require special assistance, such as sign language interpretation or other reasonable accommodations, should contact Shelley E. Garr, Acting Secretary and Clerk, at (202) 694-1040, at least 72 hours prior to the meeting date.

PERSON TO CONTACT FOR INFORMATION: Judith Ingram, Press Officer, Telephone: (202) 694-1220.

Shelley E. Garr,
Acting Secretary and Clerk of the Commission.

[FR Doc. 2014-14723 Filed 6-19-14; 4:15 pm]

BILLING CODE 6715-01-P